DEPARTMENT OF COMMERCE

National Oceanic and Atmospheric Administration

RIN 0648-XE962

Endangered and Threatened Species; Initiation of 5-Year Review for the Endangered Black Abalone and the Endangered White Abalone

AGENCY: National Marine Fisheries Service (NMFS), National Oceanic and Atmospheric Administration (NOAA), Commerce.

ACTION: Notice of initiation of 5-year review; request for information.

SUMMARY: NMFS announces its intent to conduct 5-year reviews for the black abalone (Haliotis cracherodii) and the white abalone (Haliotis sorenseni) under the Endangered Species Act of 1973, as amended (ESA). Both the black abalone and white abalone are listed as endangered under the ESA. NMFS is required by the ESA to conduct 5-year reviews to ensure that the listing classifications of the species are accurate. The 5-year reviews must be based on the best scientific and commercial data available at the time. We request submission of any such information on black abalone and white abalone, particularly information on the status, threats, and recovery of the species that has become available since the final listing decision for white abalone in May 2001 and black abalone in January 2009.

DATES: To allow us adequate time to conduct this review, we must receive your information no later than February 21, 2017. However, we will continue to accept new information about any listed species at any time.

ADDRESSES: Submit your comments by including NOAA-NMFS-2016-0146 by either of the following methods:

• Federal e-Rulemaking Portal. Go to www.regulations.gov/#!docketDetail:D=NOAA-NMFS-2016-0146, click the “Comment Now!” icon, complete the required fields, and enter or attach your comments.

• Mail or hand-deliver written information to Melissa Neuman, NMFS West Coast Region, 501 West Ocean Boulevard, Suite 4200, Long Beach, CA 90802.

Instructions: NMFS may not consider comments if they are sent by any other method, to any other address or individual, or received after the end of the specified period. All comments received are a part of the public record and NMFS will generally post for public viewing on www.regulations.gov without change. All personal identifying information (e.g., name, address, etc.), confidential business information, or otherwise sensitive or protected information submitted voluntarily by the sender is publicly accessible. NMFS will accept anonymous comments (enter “N/A” in the required fields if you wish to remain anonymous).

FOR FURTHER INFORMATION CONTACT: Melissa Neuman, NMFS West Coast Region, at 562-980-4115.

SUPPLEMENTARY INFORMATION: The white abalone was listed as endangered under the ESA on May 29, 2001 and the black abalone was listed as endangered under the ESA on January 14, 2009 (74 FR 1937). Section 4(c)(2)(A) of the ESA requires that we conduct a review of listed species at least once every five years. On the basis of such reviews under section 4(c)(2)(B), we determine whether a species should be delisted or reclassified from endangered to threatened or from threatened to endangered. Delisting a species must be supported by the best scientific and commercial data available and only considered if such data substantiates that the species is neither endangered nor threatened for one or more of the following reasons: (1) The species is considered extinct; (2) the species is considered to be recovered; or (3) the original data available when the species was listed, or the interpretation of such data, were in error. 50 CFR 424.11(d). Any change in Federal classification would require a separate rulemaking process. The ESA implementing regulations at 50 CFR 424.21 require that we publish a notice in the Federal Register announcing those species currently under active review. This notice announces our active reviews of the white abalone and black abalone, both currently listed as endangered.

Background information on white abalone, including the endangered listing, is available on the NMFS Office of Protected Species Web site at: www.fisheries.noaa.gov/pr/species/invertebrates/abalone/white-abalone.html. Background information on black abalone, including the endangered listing, is available on the NMFS Office of Protected Species Web site at: www.fisheries.noaa.gov/pr/species/invertebrates/abalone/black-abalone.html.

Determining If a Species Is Threatened or Endangered

Section 4(a)(1) of the ESA requires that we determine whether a species is endangered or threatened based on one or more of the five following factors: (1) The present or threatened destruction, modification, or curtailment of its habitat or range; (2) overutilization for commercial, recreational, scientific, or educational purposes; (3) disease or predation; (4) the inadequacy of existing regulatory mechanisms; or (5) other natural or manmade factors affecting its continued existence. Section 4(b) also requires that our determination be made on the basis of the best scientific and commercial data available after conducting a review of the status of the species and after taking into account those efforts, if any, being made by any State or foreign nation, to protect such species.

Public Solicitation of New Information

To ensure that the 5-year reviews are complete and based on the best available scientific and commercial data, we are soliciting new information from the public, governmental agencies, Tribes, the scientific community, industry, environmental entities, and any other interested parties concerning the status of white abalone and/or black abalone. The 5-year reviews consider the best scientific and commercial data that has become available since the listing determination for white abalone in May 2001 and for black abalone in January 2009. Categories of requested information include: (1) Species biology including, but not limited to, population trends, distribution, abundance, demographics, and genetics; (2) habitat conditions including, but not limited to, amount, distribution, and important features for conservation; (3) status and trends of threats; (4) conservation measures that have been implemented that benefit the species, including monitoring data demonstrating effectiveness of such measures; (5) need for additional conservation measures; and (6) other new information, data, or corrections including, but not limited to, taxonomic or nomenclatural changes and improved analytical methods for evaluating extinction risk.

If you wish to provide information for the 5-year reviews, you may submit your information and materials electronically or via mail (see ADDRESSES section). We request that all information be accompanied by supporting documentation such as maps, bibliographic references, or reprints of pertinent publications. We also would appreciate the submitter's name, address, and any association, institution, or business that the person represents; however, anonymous submissions will also be accepted.

Authority: 16 U.S.C. 1531 et seq.

Dated: December 14, 2016.
Angela Somma,
Chief, Endangered Species Division, Office of Protected Resources, National Marine Fisheries Service.

[FR Doc. 2016-30710 Filed 12-21-16; 8:45 am]

BILLING CODE 3510-22-P